DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet on June 10, 2014, from 10:00 a.m. to 4:30 p.m., and June 11, 2014, from 10:00 a.m. to 2:00 p.m. E.D.T. via Web conference. The DTAB will convene in both open and closed sessions on these two days.

On June 10, 2014, from 10:00 a.m. to 4:30 p.m., and June 11, 2014, from 10:00 a.m. to 12:00 p.m., the meeting will be open to the public. The June 10th meeting will include updates on the previously announced DTAB recommendations, the medical review officer resources, the custody and control form, the Federal Drug-Free Workplace Programs, the National Laboratory Certification Program, and the Division of Workplace Programs-sponsored research studies. The meeting also will include drug testing updates from the Department of Transportation, the Department of Defense, the Nuclear Regulatory Commission, the Federal Drug-Free Workplace Programs, and the Drug Testing Index®. The June 11th open session will include questions on the science of hair testing as it relates to hair contamination.

The public is invited to attend the open session via Web conference. Due to the limited call-in capacity, registration is requested. Public comments are welcome. To register, make arrangements to attend, obtain the web conference call-in numbers and access codes, submit written or brief oral comments, or request special accommodations for persons with disabilities, please register at the SAMHSA Advisory Committees Web site at http://nac.samhsa.gov/Registration/meetingsRegistration.aspx or contact the CSAP DTAB Designated Federal Official, Dr. Janine Denis Cook (see contact information below).

On June 11, 2014, from 12:00 p.m. to 2:00 p.m., the Board will meet in closed session to discuss proposed revisions to the Mandatory Guidelines for Federal Workplace Drug Testing Programs. Therefore, this meeting is closed to the public as determined by the Administrator, SAMHSA, in accordance with 5 U.S.C. 552b(c)(9)(B) and 5 U.S.C. App. 2, Section 10(d).

Meeting information and a roster of DTAB members may be obtained by accessing the SAMHSA Advisory Committees Web site, http://www.nac.samhsa.gov/DTAB/meetings.aspx, or by contacting Dr. Cook.

Committee Name: Substance Abuse and Mental Health Services Administration's Center for Substance Abuse Prevention Drug Testing Advisory Board.

Dates/Time/Type:

June 10, 2014, from 10:00 a.m. to 4:30 p.m. E.D.T.: OPEN

June 11, 2014, from 10:00 a.m. to 12:00 p.m. E.D.T.: OPEN

June 11, 2014, from 12:00 p.m. to 2:00 p.m. E.D.T.: CLOSED

Place: SAMHSA Building, 1 Choke Cherry Road, Rockville, Maryland 20850.

Contact: Janine Denis Cook, Ph.D., Designated Federal Official, CSAP Drug Testing Advisory Board, 1 Choke Cherry Road, Room 7-1043, Rockville, Maryland 20857, Telephone: 240-276-2600, Fax: 240-276-2610, Email: janine.cook@samhsa.hhs.gov.

Janine Denis Cook,
Designated Federal Official, DTAB, Division of Workplace Programs, Center for Substance Abuse Prevention, Substance Abuse and Mental Health Services Administration.

[FR Doc. 2014-11629 Filed 5-19-14; 8:45 am]

BILLING CODE 4162-20-P